DEPARTMENT OF DEFENSE

GENERAL SERVICES ADMINISTRATION

NATIONAL AERONAUTICS AND SPACE ADMINISTRATION

48 CFR Ch. 1

Semiannual Regulatory Agenda

AGENCY: Department of Defense (DoD), General Services Administration (GSA), and National Aeronautics and Space Administration (NASA).

ACTION: Semiannual regulatory agenda.

SUMMARY: This agenda provides summary descriptions of regulations being developed by the Civilian Agency Acquisition Council and the Defense Acquisition Regulations Council in compliance with Executive Order 12866 “Regulatory Planning and Review.” This agenda is being published to allow interested persons an opportunity to participate in the rulemaking process.

The Regulatory Secretariat Division has attempted to list all regulations pending at the time of publication, except for minor and routine or repetitive actions; however, unanticipated requirements may result in the issuance of regulations that are not included in this agenda. There is no legal significance to the omission of an item from this listing.

Published proposed rules may be reviewed in their entirety at the Government's rulemaking Web site at http://www.regulations.gov.

FOR FURTHER INFORMATION CONTACT: Hada Flowers, Division Director, Regulatory Secretariat Division, 1800 F Street NW., Washington, DC 20405, or via telephone at 202-501-4755.

SUPPLEMENTARY INFORMATION: DoD, GSA, and NASA, under their several statutory authorities, jointly issue and maintain the FAR through periodic issuance of changes published in the Federal Register and produced electronically as Federal Acquisition Circulars (FACs). The electronic version of the FAR, including changes, can be accessed on the FAR Web site at http://www.acquisition.gov/far.

Dated: March 18, 2016.
William Clark,
Director, Office of Government-wide, Acquisition Policy, Office of Acquisition Policy, Office of Government-wide Policy.

DOD/GSA/NASA (FAR)—Proposed Rule Stage
Sequence No. | Title | Regulation Identifier No.
265 | Federal Acquisition Regulation (FAR); FAR Case 2015-014; Prohibition on Providing Funds to the Enemy | 9000-AN03
266 | Federal Regulation Acquisition (FAR); FAR Case 2015-024, Public Disclosure of Greenhouse Gas Emissions and Reduction Goals-Representation | 9000-AN20

DOD/GSA/NASA (FAR)—Final Rule Stage
Sequence No. | Title | Regulation Identifier No.
267 | Federal Acquisition Regulation (FAR); FAR Case 2011-001; Organizational Conflicts of Interest and Unequal Access to Information | 9000-AL82
268 | Federal Acquisition Regulation (FAR); FAR Case 2010-013; Privacy Training | 9000-AM02
269 | Federal Acquisition Regulation (FAR); FAR Case 2011-020; Basic Safeguarding of Contractor Information Systems | 9000-AM19
270 | Federal Acquisition Regulation (FAR); FAR Case 2012-022; Contracts Under the Small Business Administration 8(a) Program | 9000-AM68
271 | Federal Acquisition Regulation (FAR); FAR Case 2014-012; Limitation on Allowable Government Contractor Compensation Costs | 9000-AM75
272 | Federal Acquisition Regulation (FAR); FAR Case 2014-025; Fair Pay and Safe Workplaces | 9000-AM81
273 | Federal Acquisition Regulation (FAR); FAR Case 2014-026; High Global Warming Potential Hydrofluorocarbons | 9000-AM87
274 | Federal Acquisition Regulation (FAR); FAR Case 2014-003; Small Business Subcontracting Improvements | 9000-AM91
275 | Federal Acquisition Regulation (FAR); FAR Case 2014-015; Consolidation and Bundling | 9000-AM92
276 | Federal Acquisition Regulation (FAR); FAR Case 2015-016; Prohibition on Reimbursement for Congressional Investigations and Inquiries | 9000-AM97
277 | Federal Acquisition Regulation (FAR); FAR Case 2014-004; Payment of Subcontractors | 9000-AM98
278 | Federal Acquisition Regulation (FAR); FAR Case 2015-012; Contractor Employee Internal Confidentiality Agreements | 9000-AN04
279 | Federal Acquisition Regulation (FAR); FAR Case 2015-011; Prohibition on Contracting With Corporations With Delinquent Taxes or a Felony Conviction | 9000-AN05
280 | Federal Acquisition Regulation; FAR Case 2015-020, Simplified Acquisition Threshold for Overseas Acquisitions in Support of Humanitarian or Peacekeeping Operations | 9000-AN09
281 | Federal Acquisition Regulation (FAR); FAR Case 2016-007; Non-Retaliation for Disclosure of Compensation Information | 9000-AN10
282 | Federal Acquisition Regulation (FAR); FAR Case 2015-032, Sole Source Contracts for Women-Owned Small Businesses | 9000-AN13
283 | Federal Acquisition Regulation (FAR); FAR Case 2015-036, Updating Federal Contractor Reporting of Veterans' Employment | 9000-AN14

DOD/GSA/NASA (FAR)—Completed Actions
Sequence No. | Title | Regulation Identifier No.
284 | Federal Acquisition Regulation (FAR); FAR Case 2013-015; Pilot Program for Enhancement of Contractor Employee Whistleblower Protections | 9000-AM56
285 | Federal Acquisition Regulation (FAR); FAR Case 2013-020; Information on Corporate Contractor Performance and Integrity | 9000-AM74
286 | Federal Acquisition Regulation (FAR); FAR Case 2015-003; Establishing a Minimum Wage for Contractors | 9000-AM82
287 | Federal Acquisition Regulation (FAR); FAR Case 2015-019; Definition of Multiple Award Contract | 9000-AM96
288 | Federal Acquisition Regulation (FAR); FAR Case 2015-013; Further Amendment to Equal Employment Opportunity (EEO) | 9000-AN01

DEPARTMENT OF DEFENSE/GENERAL SERVICES ADMINISTRATION/NATIONAL AERONAUTICS AND SPACE ADMINISTRATION (FAR)

Proposed Rule Stage

265. Federal Acquisition Regulation (FAR); FAR Case 2015-014; Prohibition on Providing Funds to the Enemy

Legal Authority: 40 U.S.C. 121(c); 10 U.S.C. ch 137; 51 U.S.C. 20113

Abstract: DoD, GSA, and NASA are proposing to amend the Federal Acquisition Regulation (FAR) to implement subtitle E of title VIII of the Carl Levin and Howard P. `Buck' McKeon National Defense Authorization Act (NDAA) for fiscal year (FY) 2015, which prohibits providing funds to the enemy. It also provides additional access to records to the extent necessary to ensure that funds available under the contract are not made available to the enemy.

Timetable:

Action | Date | FR Cite
NPRM | 07/00/16 |

Regulatory Flexibility Analysis Required: Yes.

Agency Contact: Cecelia L. Davis, Procurement Analyst, DOD/GSA/NASA (FAR), 1800 F Street NW., Washington, DC 20405, Phone: 202 219-0202, Email: cecelia.davis@gsa.gov.

RIN: 9000-AN03

266. • Federal Regulation Acquisition (FAR); FAR Case 2015-024, Public Disclosure of Greenhouse Gas Emissions and Reduction Goals—Representation

Legal Authority: 40 U.S.C. 121(c); 10 U.S.C. chapter 137; 51 U.S.C. 20113

Abstract: DoD, GSA, and NASA are proposing to amend the Federal Acquisition Regulation (FAR) to create an annual representation within the System for Award Management for vendors to indicate if and where they publicly disclose greenhouse gas emissions and greenhouse gas reduction goals or targets. This information will help the Government assess supplier greenhouse gas management practices and assist agencies in developing strategies to engage with contractors to reduce supply chain emissions, as directed in the Executive Order on Planning for Federal Sustainability in the Next Decade.

Timetable:

Action | Date | FR Cite
NPRM | 06/00/16 |

Regulatory Flexibility Analysis Required: Yes.

Agency Contact: Chuck Gray, Program Analyst, DOD/GSA/NASA (FAR), 1800 F Street NW., Washington, DC 20405, Phone: 202 208-6766.

RIN: 9000-AN20

DEPARTMENT OF DEFENSE/GENERAL SERVICES ADMINISTRATION/NATIONAL AERONAUTICS AND SPACE ADMINISTRATION (FAR)

Final Rule Stage

267. Federal Acquisition Regulation (FAR); FAR Case 2011-001; Organizational Conflicts of Interest and Unequal Access to Information

Legal Authority: 40 U.S.C. 121(c); 10 U.S.C. ch 137; 51 U.S.C. 20113

Abstract: DoD, GSA, and NASA are issuing a final rule amending the Federal Acquisition Regulation (FAR) to provide revised regulatory coverage on organizational conflicts of interest (OCIs), and add related provisions and clauses. Coverage on contractor access to protected information has been moved to a new proposed rule, FAR Case 2012-029 now FAR Case 2014-021. Section 841 of the Duncan Hunter National Defense Authorization Act for fiscal year 2009 (Pub. L. 110-417) required a review of the FAR coverage on OCIs. The proposed rule was developed as a result of a review conducted in accordance with section 841 by the Civilian Agency Acquisition Council, the Defense Acquisition Regulations Council, and the Office of Federal Procurement Policy, in consultation with the Office of Government Ethics. The proposed rule was preceded by an Advance Notice of Proposed Rulemaking, under FAR Case 2007-018 (73 FR 15962), to gather comments from the public with regard to whether and how to improve the FAR coverage on OCIs. This case is included in the FAR retrospective review of existing regulations under Executive Order 13563. Additional information is located in the FAR final plan (2016), available at: https://www.acquisition.gov/.

Timetable:

Action | Date | FR Cite
NPRM | 04/26/11 | 76 FR 23236
NPRM Comment Period End | 06/27/11 |
NPRM Comment Period Extended | 06/29/11 | 76 FR 38089
NPRM Comment Period Extended End | 07/27/11 |
Final Rule | 09/00/16 |

Regulatory Flexibility Analysis Required: Yes.

Agency Contact: Cecelia L. Davis, Procurement Analyst, DOD/GSA/NASA (FAR), 1800 F Street NW., Washington, DC 20405, Phone: 202 219-0202, Email: cecelia.davis@gsa.gov.

RIN: 9000-AL82

268. Federal Acquisition Regulation (FAR); FAR Case 2010-013; Privacy Training

Legal Authority: 40 U.S.C. 121(c); 10 U.S.C. ch 137; 51 U.S.C. 20113

Abstract: DoD, GSA, and NASA are issuing a final rule to amend the Federal Acquisition Regulation (FAR) to ensure that all contractors are required to complete training in the protection of privacy and the handling and safeguarding of Personally Identifiable Information (PII). The proposed FAR language provides flexibility for agencies to conduct the privacy training or require the contractor to conduct the privacy training. This case is included in the FAR retrospective review of existing regulations under Executive Order 13563. Additional information is located in the FAR final plan (2016), available at: https://www.acquisition.gov/.

Timetable:

Action | Date | FR Cite
NPRM | 10/14/11 | 76 FR 63896
NPRM Comment Period End | 12/13/11 |
Final Rule | 06/00/16 |

Regulatory Flexibility Analysis Required: Yes.

Agency Contact: Charles Gray, Procurement Analyst, DOD/GSA/NASA (FAR), 1800 F Street NW., Washington, DC 20405, Phone: 202 208-6726.

RIN: 9000-AM02

269. Federal Acquisition Regulation (FAR); FAR Case 2011-020; Basic Safeguarding of Contractor Information Systems

Legal Authority: 40 U.S.C. 121(c); 10 U.S.C. ch 137; 51 U.S.C. 20113

Abstract: DoD, GSA, and NASA are issuing a final rule amending the Federal Acquisition Regulation (FAR) to add a new subpart and contract clause for the basic safeguarding of contractor information systems that contain, transmit, or process Federal contract information. This case is included in the FAR retrospective review of existing regulations under Executive Order 13563. Additional information is located in the FAR final plan (2016), available at: https://www.acquisition.gov/.

Timetable:

Action | Date | FR Cite
NPRM | 08/24/12 | 77 FR 51496
NPRM Comment Period End | 10/23/12 |
Final Rule | 05/00/16 |

Regulatory Flexibility Analysis Required: Yes.

Agency Contact: Cecelia L. Davis, Procurement Analyst, DOD/GSA/NASA (FAR), 1800 F Street NW., Washington, DC 20405, Phone: 202 219-0202, Email: cecelia.davis@gsa.gov.

RIN: 9000-AM19

270. Federal Acquisition Regulation (FAR); FAR Case 2012-022; Contracts Under the Small Business Administration 8(a) Program

Legal Authority: 40 U.S.C. 121(c); 10 U.S.C. ch 137; 51 U.S.C. 20113

Abstract: DoD, GSA, and NASA are issuing a final rule to amend the Federal Acquisition Regulation (FAR) to implement revisions made by the Small Business Administration to its regulations implementing section 8(a) of the Small Business Act, and to provide additional FAR coverage regarding protesting an 8(a) participant's eligibility or size status, procedures for releasing a requirement for non-8(a) procurements, and the ways a participant could exit the 8(a) Business Development program.

Timetable:

Action | Date | FR Cite
NPRM | 02/03/14 | 79 FR 6135
NPRM Comment Period End | 04/14/14 |
Final Rule | 07/00/16 |

Regulatory Flexibility Analysis Required: Yes.

Agency Contact: Mahruba Uddowla, Procurement Analyst, DOD/GSA/NASA (FAR), 1800 F Street NW., Washington, DC 20405, Phone: 703 605-2868, Email: mahruba.uddowla@gsa.gov.

RIN: 9000-AM68

271. Federal Acquisition Regulation (FAR); FAR Case 2014-012; Limitation on Allowable Government Contractor Compensation Costs

Legal Authority: 40 U.S.C. 121(c); 10 U.S.C. ch 137; 51 U.S.C. 20113

Abstract: DoD, GSA and NASA are issuing a final rule amending the Federal Acquisition Regulation to implement section 702 of the Bipartisan Budget Act of 2013. In accordance with section 702, the interim rule revises the allowable cost limit relative to the compensation of contractor and subcontractor employees. Also, in accordance with section 702, this interim rule implements the possible exception to this allowable cost limit for narrowly targeted scientists, engineers, or other specialists upon an agency determination that such exceptions are needed to ensure that the executive agency has continued access to needed skills and capabilities.

Timetable:

Action | Date | FR Cite
Interim Final Rule | 06/24/14 | 79 FR 35865
Interim Final Rule Comment Period End | 08/25/14 |
Final Rule | 09/00/16 |

Regulatory Flexibility Analysis Required: Yes.

Agency Contact: Kathy Hopkins, Procurement Analyst, DOD/GSA/NASA (FAR), 1800 F Street NW., Washington, DC 20405, Phone: 202 969-7226, Email: kathlyn.hopkins@gsa.gov.

RIN: 9000-AM75

272. Federal Acquisition Regulation (FAR); FAR Case 2014-025; Fair Pay and Safe Workplaces

Legal Authority: 40 U.S.C. 121(c); 10 U.S.C. ch 137; 51 U.S.C. 20113

Abstract: DoD, GSA, and NASA are issuing a final rule amending the Federal Acquisition Regulation which implements Executive Order 13673, Fair Pay and Safe Workplaces, seeks to increase efficiency in the work performed by Federal contractors by ensuring that they understand and comply with labor laws designed to promote safe, healthy, fair and effective workplaces.

Timetable:

Action | Date | FR Cite
NPRM | 05/28/15 | 80 FR 30548
NPRM Comment Period End | 07/27/15 |
NPRM Comment Period Extended | 07/14/15 | 80 FR 40968
NPRM Comment Period Extended End | 08/11/15 |
NPRM Comment Period Extended | 08/05/15 | 80 FR 46531
NPRM Comment Period Extended End | 08/26/15 |
Final Rule | 08/00/16 |

Regulatory Flexibility Analysis Required: Yes.

Agency Contact: Edward Loeb, Program Manager, DOD/GSA/NASA (FAR), 1800 F Street NW., Washington, DC 20405, Phone: 202 501-0650, Email: edward.loeb@gsa.gov.

RIN: 9000-AM81

273. Federal Acquisition Regulation (FAR); FAR Case 2014-026; High Global Warming Potential Hydrofluorocarbons

Legal Authority: 40 U.S.C. 121(c); 10 U.S.C. ch 137; 51 U.S.C. 20113

Abstract: DDoD, GSA, and NASA are issuing a final rule amending the Federal Acquisition Regulation (FAR) to implement Executive branch policy in the President's Climate Action Plan to procure, when feasible, alternatives to high global warming potential (GWP) hydrofluorocarbons (HFCs). This final rule will allow agencies to better meet the greenhouse gas emission reduction goals and reporting requirements of the Executive Order on Planning for Sustainability in the Next Decade.

Timetable:

Action | Date | FR Cite
NPRM | 05/11/15 | 80 FR 26883
NPRM Comment Period End | 07/10/15 |
Final Rule | 05/00/16 |

Regulatory Flexibility Analysis Required: Yes.

Agency Contact: Charles Gray, Procurement Analyst, DOD/GSA/NASA (FAR), 1800 F Street NW., Washington, DC 20405, Phone: 202 208-6726.

RIN: 9000-AM87

274. Federal Acquisition Regulation (FAR); FAR Case 2014-003; Small Business Subcontracting Improvements

Legal Authority: 40 U.S.C. 121(c); 10 U.S.C. ch 137; 51 U.S.C. 20113

Abstract: DoD, GSA, and NASA are issuing a final rule to amend the Federal Acquisition Regulation (FAR) to implement regulatory changes made by the Small Business Administration (SBA) in its final rule, concerning small business subcontracting. Among other things, SBA's final rule implements the statutory requirements set forth at sections 1321 and 1322 of the Small Business Jobs Act of 2010. This case is included in the FAR retrospective review of existing regulations under Executive Order 13563. Additional information is located in the FAR final plan (2016), available at: https://www.acquisition.gov/.

Timetable:

Action | Date | FR Cite
NPRM | 06/10/15 | 80 FR 32909
NPRM Comment Period End | 08/10/15 |
Final Rule | 07/00/16 |

Regulatory Flexibility Analysis Required: Yes.

Agency Contact: Mahruba Uddowla, Procurement Analyst, DOD/GSA/NASA (FAR), 1800 F Street NW., Washington, DC 20405, Phone: 703 605-2868, Email: mahruba.uddowla@gsa.gov.

RIN: 9000-AM91

275. Federal Acquisition Regulation (FAR); FAR Case 2014-015; Consolidation and Bundling

Legal Authority: 40 U.S.C. 121(c); 10 U.S.C. ch 137; 51 U.S.C. 20113

Abstract: DoD, GSA, and NASA are issuing a final rule to amend the Federal Acquisition Regulation (FAR) to implement sections of the Small Business Jobs Act of 2010 and regulatory changes made by the Small Business Administration, which provide for a Governmentwide policy on consolidation and bundling. Additional information is located in the FAR final plan (2016), available at: https://www.acquisition.gov/.

Timetable:

Action | Date | FR Cite
NPRM | 06/03/15 | 80 FR 31561
NPRM Comment Period End | 08/03/15 |
Final Rule | 07/00/16 |

Regulatory Flexibility Analysis Required: Yes.

Agency Contact: Mahruba Uddowla, Procurement Analyst, DOD/GSA/NASA (FAR), 1800 F Street NW., Washington, DC 20405, Phone: 703 605-2868, Email: mahruba.uddowla@gsa.gov.

RIN: 9000-AM92

276. Federal Acquisition Regulation (FAR); FAR Case 2015-016; Prohibition on Reimbursement for Congressional Investigations and Inquiries

Legal Authority: 40 U.S.C. 121(c); 10 U.S.C. ch 137; 51 U.S.C. 20113

Abstract: DoD, GSA, and NASA are issuing a final rule to amend the Federal Acquisition Regulation (FAR) to implement section 857 of the Carl Levin and Howard P. `Buck' McKeon National Defense Authorization Act for Fiscal Year 2015. This section provides additional requirements relative to the allowability of costs incurred by a contractor in connection with a congressional investigation or inquiry.

Timetable:

Action | Date | FR Cite
NPRM | 02/17/16 | 81 FR 8031
NPRM Comment Period End | 04/18/16 |
Final Rule | 03/00/17 |

Regulatory Flexibility Analysis Required: Yes.

Agency Contact: Kathy Hopkins, Procurement Analyst, DOD/GSA/NASA (FAR), 1800 F Street NW., Washington, DC 20405, Phone: 202 969-7226, Email: kathlyn.hopkins@gsa.gov.

RIN: 9000-AM97

277. Federal Acquisition Regulation (FAR); FAR Case 2014-004; Payment of Subcontractors

Legal Authority: 40 U.S.C. 121(c); 10 U.S.C. ch 137; 51 U.S.C. 20113

Abstract: DoD, GSA, and NASA are issuing a final rule to amend the Federal Acquisition Regulation (FAR) to implement a section of the Small Business Jobs Act of 2010. This statute requires contractors to notify the contracting officer in writing if the contractor pays a reduced price to a small business subcontractor, or if the contractor's payment to a small business contractor is more than 90 days past due. Additional information is located in the FAR final plan (2016), available at: https://www.acquisition.gov/.

Timetable:

Action | Date | FR Cite
NPRM | 01/20/16 | 81 FR 3087
NPRM Comment Period End | 03/21/16 |
Final Rule | 09/00/16 |

Regulatory Flexibility Analysis Required: Yes.

Agency Contact: Curtis Glover, Procurement Analyst, DOD/GSA/NASA (FAR), 1800 F Street NW., Washington, DC 20405, Phone: 202 501-1448, Email: curtis.glover@gsa.gov.

RIN: 9000-AM98

278. Federal Acquisition Regulation (FAR); FAR Case 2015-012; Contractor Employee Internal Confidentiality Agreements

Legal Authority: 40 U.S.C. 121(c); 10 U.S.C. ch 137; 51 U.S.C. 20113

Abstract: DoD, GSA, and NASA are issuing a final rule to amend the Federal Acquisition Regulation (FAR) to implement a section of the Consolidated and Further Continuing Appropriations Act, 2015, that prohibits the use of funds, appropriated or otherwise made available, for a contract with an entity that requires employees or subcontractors to sign an internal confidentiality agreement that restricts such employees or subcontractors from lawfully reporting waste, fraud, or abuse to a designated Government representative authorized to receive such information.

Timetable:

Action | Date | FR Cite
NPRM | 01/22/16 | 81 FR 3763
NPRM Comment Period End | 03/22/16 |
Final Rule | 08/00/16 |

Regulatory Flexibility Analysis Required: Yes.

Agency Contact: Cecelia L. Davis, Procurement Analyst, DOD/GSA/NASA (FAR), 1800 F Street NW., Washington, DC 20405, Phone: 202 219-0202, Email: cecelia.davis@gsa.gov.

RIN: 9000-AN04

279. Federal Acquisition Regulation (FAR); FAR Case 2015-011; Prohibition on Contracting With Corporations With Delinquent Taxes or a Felony Conviction

Legal Authority: 40 U.S.C. 121(c); 10 U.S.C. ch 137; 51 U.S.C. 20113

Abstract: DoD, GSA, and NASA are issuing a final rule amending the Federal Acquisition Regulation (FAR) to implement sections of the Consolidated and Further Continuing Appropriations Act, 2015, to prohibit the Federal Government from entering into a contract with any corporation having a delinquent Federal tax liability or a felony conviction under any Federal law, unless the agency has considered suspension or debarment of the corporation and has made a determination that this further action is not necessary to protect the interests of the Government.

Timetable:

Action | Date | FR Cite
Interim Final Rule | 12/04/15 | 80 FR 75903
Interim Final Rule Comment Period End | 02/02/16 |
Interim Final Rule Effective | 02/26/16 |
Final Rule | 08/00/16 |

Regulatory Flexibility Analysis Required: Yes.

Agency Contact: Cecelia L. Davis, Procurement Analyst, DOD/GSA/NASA (FAR), 1800 F Street NW., Washington, DC 20405, Phone: 202 219-0202, Email: cecelia.davis@gsa.gov.

RIN: 9000-AN05

280. Federal Acquisition Regulation; FAR Case 2015-020, Simplified Acquisition Threshold for Overseas Acquisitions in Support of Humanitarian or Peacekeeping Operations

Legal Authority: 40 U.S.C. 121(c); 10 U.S.C. chapter 137; 51 U.S.C. 20113

Abstract: DoD, GSA, and NASA are issuing a final rule to amend the Federal Acquisition Regulation (FAR) to implement 41 U.S.C. 153, which establishes a higher simplified acquisition threshold for overseas acquisitions in support of humanitarian or peacekeeping operations.

Timetable:

Action | Date | FR Cite
NPRM | 10/08/15 | 80 FR 60832
NPRM Comment Period End | 12/07/15 |
Final Rule | 05/00/16 |

Regulatory Flexibility Analysis Required: Yes.

Agency Contact: Ms. Camara Francis, Procurement Analyst, DOD/GSA/NASA (FAR), 1800 F Street NW., Washington, DC 20405, Phone: 202 550-0935, Email: camara.francis@gsa.gov.

RIN: 9000-AN09

281. • Federal Acquisition Regulation (FAR); FAR Case 2016-007; Non-Retaliation for Disclosure of Compensation Information

Legal Authority: 40 U.S.C. 121(c); 10 U.S.C. ch 137; 51 U.S.C. 20113

Abstract: DoD, GSA, and NASA are issuing an interim rule amending the Federal Acquisition Regulation (FAR) to implement Executive Order (E.O.) 13665, entitled, Non-Retaliation for Disclosure of Compensation Information,” and a final rule issued by the Department of Labor at 41 CFR part 60-1.

Timetable:

Action | Date | FR Cite
Interim Final Rule | 07/00/16 |

Regulatory Flexibility Analysis Required: Yes.

Agency Contact: Zenaida Delgado, DOD/GSA/NASA (FAR), 1800 F Street NW., Washington, DC 20405, Phone: 202 969-7207, Email: zenaida.delgado@gsa.gov.

RIN: 9000-AN10

282. Federal Acquisition Regulation (FAR); FAR Case 2015-032, Sole Source Contracts for Women-Owned Small Businesses

Legal Authority: 40 U.S.C. 121(c); 10 U.S.C. ch 137; 51 U.S.C. 20113

Abstract: DoD, GSA, and NASA are issuing a final rule amending the Federal Acquisition Regulation (FAR) to implement regulatory changes made by the Small Business Administration, which provide for authority to award sole source contracts to economically disadvantaged women-owned small business concerns and to women-owned small business concerns eligible under the Women-Owned Small Business Program. This case is included in the FAR retrospective review of existing regulations under Executive Order 13563. Additional information is located in the FAR final plan (2016), available at: https://www.acquisition.gov/.

Timetable:

Action | Date | FR Cite
Interim Final Rule | 12/31/15 | 80 FR 81888
Interim Final Rule Effective | 12/31/15 |
Interim Final Rule Comment Period End | 02/29/16 |
Final Rule | 07/00/16 |

Regulatory Flexibility Analysis Required: Yes.

Agency Contact: Mahruba Uddowla, Procurement Analyst, DOD/GSA/NASA (FAR), 1800 F Street NW., Washington, DC 20405, Phone: 703 605-2868.

RIN: 9000-AN13

283. • Federal Acquisition Regulation (FAR); FAR Case 2015-036, Updating Federal Contractor Reporting of Veterans' Employment

Legal Authority: 40 U.S.C. 121(c); 10 U.S.C. ch. 137; 51 U.S.C. 20113

Abstract: DoD, GSA, and NASA are issuing a final rule amending the Federal Acquisition Regulation (FAR) to implement a final rule issued by the Department of Labor's (DOL) Veterans' Employment and Training Service (VETS), which replaced the VETS-100A Federal Contractor Veterans' Employment Report forms with the new VETS-4212, Federal Contractor Veterans' Employment Report form.

Timetable:

Action | Date | FR Cite
Interim Final Rule | 12/04/15 | 80 FR 75908
Interim Final Rule Comment Period End | 02/02/16 |
Interim Final Rule Effective | 02/26/16 |
Final Rule | 07/00/16 |

Regulatory Flexibility Analysis Required: Yes.

Agency Contact: Edward Loeb, Program Manager, DOD/GSA/NASA (FAR), 1800 F Street NW., Washington, DC 20405, Phone: 202 501-0650, Email: edward.loeb@gsa.gov.

RIN: 9000-AN14

DEPARTMENT OF DEFENSE/GENERAL SERVICES ADMINISTRATION/NATIONAL AERONAUTICS AND SPACE ADMINISTRATION (FAR)

Completed Actions

284. Federal Acquisition Regulation (FAR); FAR Case 2013-015; Pilot Program for Enhancement of Contractor Employee Whistleblower Protections

Legal Authority: 40 U.S.C. 121(c); 10 U.S.C. ch 137; 51 U.S.C. 20113

Abstract: DoD, GSA, and NASA issued a final rule of the Federal Acquisition Regulation to implement a statutory pilot program whistleblower protections for enhancement of contractor employee.

Completed:

Reason | Date | FR Cite
Final Rule | 12/04/15 | 80 FR 75911
Final Rule Effective | 12/04/15 |

Regulatory Flexibility Analysis Required: Yes.

Agency Contact: Cecelia L. Davis, Phone: 202 219-0202, Email: cecelia.davis@gsa.gov.

RIN: 9000-AM56

285. Federal Acquisition Regulation (FAR); FAR Case 2013-020; Information on Corporate Contractor Performance and Integrity

Legal Authority: 40 U.S.C. 121(c); 10 U.S.C. ch 137; 51 U.S.C. 20113

Abstract: DoD, GSA, and NASA issued a final rule amending the Federal Acquisition Regulation to implement a section of the National Defense Authorization Act for Fiscal Year 2013 to include in the Federal Awardee Performance and Integrity Information System, to the extent practicable, identification of any immediate owner or subsidiary, and all predecessors of an offeror that held a Federal contract or grant within the last three years. The objective is to provide a more comprehensive understanding of the performance and integrity of the corporation in awarding Federal contracts.

Completed:

Reason | Date | FR Cite
Final Rule | 03/07/16 | 81 FR 11988
Final Rule Effective | 04/06/16

Regulatory Flexibility Analysis Required: Yes.

Agency Contact: Cecelia L. Davis, Phone: 202 219-0202, Email: cecelia.davis@gsa.gov.

RIN: 9000-AM74

286. Federal Acquisition Regulation (FAR); FAR Case 2015-003; Establishing a Minimum Wage for Contractors

Legal Authority: 40 U.S.C. 121(c); 10 U.S.C. ch 137; 51 U.S.C. 20113

Abstract: DoD, GSA, and NASA issued a final rule amending the Federal Acquisition Regulation (FAR) to implement Executive Order 13658, Establishing a Minimum Wage for Contractors, and a final rule issued by the Department of Labor (DOL) at 29 CFR part 10. This case is included in the FAR retrospective review of existing regulations under Executive Order 13563. Additional information is located in the FAR final plan (2015), available at: https://www.acquisition.gov/.

Completed:

Reason | Date | FR Cite
Final Rule | 12/04/15 | 80 FR 75915
Final Rule Effective | 12/04/15

Regulatory Flexibility Analysis Required: Yes.

Agency Contact: Edward Loeb, Phone: 202 501-0650, Email: edward.loeb@gsa.gov.

RIN: 9000-AM82

287. Federal Acquisition Regulation (FAR); FAR Case 2015-019; Definition of Multiple Award Contract

Legal Authority: 40 U.S.C. 121(c); 10 U.S.C. ch 137; 51 U.S.C. 20113

Abstract: DoD, GSA, and NASA issued a final rule to amend the Federal Acquisition Regulation to implement section 1311 of the Small Business Jobs Act of 2010 and Small Business Administration implementing regulations. Section 1311 provided a new definition of the term “multiple award contract” in the Small Business Act at 15 U.S.C. 632.

Completed:

Reason | Date | FR Cite
Final Rule | 12/31/15 | 80 FR 81887
Final Rule Effective | 02/01/16

Regulatory Flexibility Analysis Required: Yes.

Agency Contact: Mahruba Uddowla, Phone: 703 605-2868, Email: mahruba.uddowla@gsa.gov.

RIN: 9000-AM96

288. Federal Acquisition Regulation (FAR); FAR Case 2015-013; Further Amendment to Equal Employment Opportunity (EEO)

Legal Authority: 40 U.S.C. 121(c); 10 U.S.C. ch 137; 51 U.S.C. 20113

Abstract: DoD, GSA, and NASA have adopted as final, without change, an interim rule amending the Federal Acquisition Regulation (FAR) to implement Executive Order 13672, entitled, Further Amendments to Executive Order 11487, Equal Employment Opportunity in the Federal Government, and Executive Order 11246, Equal Employment Opportunity,” and a final rule issued by the Department of Labor at 41 CFR part 60.

Completed:

Reason | Date | FR Cite
Final Rule | 11/04/15 | 80 FR 75907
Final Rule Effective | 12/04/15

Regulatory Flexibility Analysis Required: Yes.

Agency Contact: Edward Loeb, Phone: 202 501-0650, Email: edward.loeb@gsa.gov.

RIN: 9000-AN01

[FR Doc. 2016-12928 Filed 6-8-16; 8:45 am]

BILLING CODE 5001-EP-P